GENERAL SERVICES ADMINISTRATION

Governmentwide Per Diem Advisory Board

AGENCY: Office of Governmentwide Policy, GSA.

ACTION: Notice of meeting.

SUMMARY: Notice is hereby given that the Governmentwide Per Diem Advisory Board will hold an open meeting from 8:30 a.m. to 4 p.m. on Thursday, September 19, 2002. The meeting will be held at The Crystal Gateway Marriott, 1700 Jefferson Davis Highway, Arlington, VA 22202. This meeting is open to the public. Members of the public who wish to file a statement with the Board may do so in writing c/o Rob Miller, Designated Federal Officer (MTT), General Services Administration, 1800 F St., NW., Room G-219, Washington, DC 20405, or via e-mail at robl.miller@gsa.gov.

Purpose: To review the current process and methodology that is used by GSA's Office of Governmentwide Policy to determine the per diem rates for destinations within the continental United States (CONUS), and to provide advice on best practices for a Federal lodging program. The Board will receive a preliminary analysis report for improving the per diem process, and identifying best practices for a Governmentwide lodging program.

For security and building access: (1) Attendees should be prepared to present a government issued photo identification; (2) ADA accessible facility; (3) public seating may be limited.

FOR FURTHER INFORMATION CONTACT: Rob Miller (202) 501-4621, Designated Federal Officer, or Joddy Garner (202) 501-4857, Per Diem Program Manager, General Services Administration. Also, inquiries may be sent to robl.miller@gsa.gov.

Dated: August 30, 2002.
Peggy DeProspero,
Acting Director of Travel Management Policy, Office of Transportation and Personal Property.

[FR Doc. 02-22614 Filed 9-4-02; 8:45 am]

BILLING CODE 6820-14-P